DEPARTMENT OF HOMELAND SECURITY

Coast Guard

33 CFR Part 165

[Docket No. USCG-2014-0359]

RIN 1625-AA00

Safety Zone; Bullhead City River Regatta; Bullhead City, AZ

AGENCY: Coast Guard, DHS.

ACTION: Temporary final rule.

SUMMARY: The Coast Guard is establishing a temporary safety zone on the navigable waters of the Colorado River in Bullhead City, AZ in support of the 2014 Bullhead City River Regatta. This temporary safety zone is necessary to provide for the safety of the participants, crew, spectators, sponsor vessels, and other users of the waterway. Persons and vessels are prohibited from entering into, transiting through, or anchoring within this safety zone unless authorized by the Captain of the Port, or his designated representative.

DATES: This rule is effective from 6 a.m. to 6 p.m. on August 9, 2014.

ADDRESSES: Documents mentioned in this preamble are part of docket [USCG-2014-0359]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Lieutenant Commander John Bannon, Waterways Management, U.S. Coast Guard Sector San Diego, Coast Guard; telephone 619-278-7261, email John.E.Bannon@uscg.mil. If you have questions on viewing or submitting material to the docket, call Cheryl Collins, Program Manager, Docket Operations, telephone (202) 366-9826.

SUPPLEMENTARY INFORMATION:

Table of Acronyms

DHS Department of Homeland Security

FR Federal Register

NPRM Notice of Proposed Rulemaking

TFR Temporary Final Rule

LNM Local Notice to Mariners

A. Regulatory History and Information

The Coast Guard is issuing this temporary final rule after publishing an NPRM on May 20, 2014, that provided a 30 day public comment period. The Coast Guard received no comments on the NPRM for this rule, and as such, no changes have been made to the safety zone. This temporary safety zone is established to support an annual marine event listed in 33 CFR 100.1102, Table 1, item 16.

B. Basis and Purpose

The legal basis and authorities for this rule are found in 33 U.S.C. 1231, 46 U.S.C. Chapter 701, 3306, 3703; 50 U.S.C. 191, 195; 33 CFR 1.05-1, 6.04-1, 6.04-6, and 160.5; Public Law 107-295, 116 Stat. 2064; and Department of Homeland Security Delegation No. 0170.1, which collectively authorize the Coast Guard to propose, establish, and define regulatory safety zones.

Bullhead City, AZ is sponsoring the 2014 annual River Regatta, a permitted Coast Guard marine event, held on the navigable waters of the Colorado River in Bullhead City, AZ.

The temporary safety zone established by this rule supports that marine event. This recurring marine event is listed in 33 CFR 100.1102, Table 1, item 16.

This temporary safety zone is necessary to provide for the safety of the participants, crew, spectators, sponsor vessels, and other users of the waterway throughout this popular annual event. This event involves participants floating down the river on inflatable rafts, inner tubes, and floating platforms as part of the organized marine event. The size and types of floats will vary. Approximately 25,000 people are expected to participate in this event. The sponsor will provide over 32 patrol and rescue boats to help facilitate the event, make certain participants are wearing personal floatation devices, and ensure overall public safety. As the participants conclude each section of the river, the COTP will disestablish the associated safety zone for that section of the river as soon as it is safe to do so.

C. Discussion of Comments, Changes and the Final Rule

The Coast Guard received 0 comments on the NPRM for this rule, and as such, no changes have been made to the final rule.

Because the safety zone is being established to help support Bullhead City officials with event safety and to ensure a safe area for this widely attended event, the safety zone is necessary for this one-day event. Although the Coast Guard did not receive any official comments on the rulemaking, prior to publishing the NPRM, on April 28, 2014, Coast Guard Sector San Diego did receive an email notice from the Nevada Department of Wildlife (NDOW) concerning the safety of the event. Although this comment was not submitted officially to the NPRM docket, it does warrant recognition as it relates to the safety of the event and the establishment of a temporary safety zone that will limit public access to the waterway. NDOW stated a concern about the inability of event sponsors to enforce life jacket usage throughout the river float. NDOW estimates that less than 20% of event participants wear a life jacket throughout the entire six mile event. The Coast Guard recognizes that the sponsor of the event has trouble enforcing this rule in shallow water that involves approximately 25,000 participants. This year, additional life guard staffing and law enforcement presence will address this concern, including removal of participants at appropriate times for failing to wear their life jackets. Wearing a life jacket is a condition of participation.

In addition, NDOW discussed the lack of a comprehensive event evacuation plan, specifically throughout the six mile river route that includes private property shoreline and inaccessible shoreline to roads and parks. Event organizers do, however, address this concern in the Bullhead City Police Department event Incident Action Plan (IAP). The IAP will account for extreme weather, such as lightning, that will call for either temporarily or completely halting the event and removing participants from the waterway as safely and efficiently as possible.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. This determination is based on the size and location of the safety zone. The safety zone will encompass all navigable waters in the vicinity of Davis Camp to Rotary Park in Bullhead City, AZ. Vessels may transit through the safety zone during the specified times if they request and receive permission from the Captain of the Port or his designated representative, on a case by case basis. And, as soon as possible, the waterway will be reopened in phases as the event winds down.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000.

The Coast Guard received no comments from the Small Business Administration on this rule and the impact of a temporary one day closure of the portion of the Colorado River for this annual event. The Coast Guard certifies under 5 U.S.C. 605(b) that this rule will not have a significant economic impact on a substantial number of small entities. This rule will affect the following entities, some of which might be small entities: The owners or operators of private, commercial vessels or for hire vessels, intending to transit or anchor in a portion of the waters of the Colorado River between Davis Camp to Rotary Park in Bullhead City, Arizona from 6 a.m. to 6 p.m. on August 9, 2014. Because this is a popular annual event supported by neighboring municipalities from Arizona and Nevada with in-depth planning, very few small businesses are impacted.

This safety zone will not have a significant economic impact on a substantial number of small entities for the following reasons. Although the safety zone would apply to the entire width of the river, traffic would be allowed to pass through the zone with the permission of the Captain of the Port, or his designated representative. This popular annual event is advertised extensively in the area. Before the effective period, the Coast Guard will publish a Local Notice to Mariners. And, just prior to the event, the Coast Guard will notify on-water users of the restriction to the waterway. Furthermore, many personal watercraft businesses are able to rent their equipment to event sponsors for event support. And, alternate waterway use locations exist above and beyond the affected six mile portion of the Colorado River, as well as Lake Mohave, located immediately adjacent to the waterway. This event is the only event throughout the year that limits full use of the navigable waterway and it is well advertised.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves establishment of a temporary safety zone on the navigable waters of the Colorado River. This rule is categorically excluded from further review under paragraph 34(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1

2. Add § 165.T11-644 to read as follows:

§ 165.T11-644 Safety Zone; Bullhead City River Regatta, Bullhead City, AZ.

(a) Location. This temporary safety zone includes six miles of navigable waters of the Colorado River between Davis Camp and Rotary Park in Bullhead City, AZ.

(b) Enforcement Period. The zone described in paragraph (a) of this section will be enforced from 6 a.m. to 6 p.m. on August 9, 2014. Before the effective period, the Coast Guard will publish a Local Notice to Mariners (LNM). If the event concludes prior to the scheduled termination time, the Captain of the Port will cease enforcement of this safety zone and will announce that fact via Broadcast Notice to Mariners.

(c) Definitions.

The following definition applies to this section: designated representative, means any commissioned, warrant, or petty officer of the Coast Guard on board Coast Guard, Coast Guard Auxiliary, or local, state, and federal law enforcement vessels who have been authorized to act on the behalf of the Captain of the Port.

(d) Regulations.

(1) In accordance with general regulations in 33 CFR part 165, Subpart C, entry into, transit through or anchoring within this safety zone is prohibited unless authorized by the Captain of the Port of San Diego or his designated representative.

(2) The safety zone is closed to all vessel traffic, except as may be permitted by the COTP or a designated representative.

(3) Mariners requesting permission to transit through the safety zone may request authorization to do so from the Captain of the Port designated representative.

(4) All persons and vessels shall comply with the instructions of the Coast Guard Captain of the Port or his designated representative.

(5) Upon being hailed by U.S. Coast Guard or designated patrol personnel by siren, radio, flashing light or other means, the operator of a vessel shall proceed as directed.

(6) The Coast Guard may be assisted by other Federal, State, or local law enforcement agencies in the patrol and notification of the regulation.

Dated: June 24, 2014.
J.A. Janszen,
Commander, U.S. Coast Guard, Acting Captain of the Port San Diego.

[FR Doc. 2014-16073 Filed 7-8-14; 8:45 am]

BILLING CODE 9110-04-P